DEPARTMENT OF TRANSPORTATION

Pipeline and Hazardous Materials Safety Administration

[Docket No. PHMSA-RSPA-2004-18757]

Pipeline Safety: Request for Special Permit; TransCanada/Columbia Pipeline Group

AGENCY: Pipeline and Hazardous Materials Safety Administration (PHMSA); DOT.

ACTION: Notice.

SUMMARY: PHMSA is publishing this notice to seek public comment on a request for special permit renewal, seeking relief from compliance with certain requirements in the federal pipeline safety regulations. At the conclusion of the 30-day comment period, PHMSA will review the comments received from this notice as part of its evaluation to grant or deny the special permit renewal request.

DATES: Submit any comments regarding this special permit request by August 19, 2019.

ADDRESSES: Comments should reference the docket number for the specific special permit request and may be submitted in the following ways:

• E-Gov website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: There is a privacy statement published on https://www.Regulations.gov. Comments, including any personal information provided, are posted without changes or edits to https://www.Regulations.gov.

FOR FURTHER INFORMATION CONTACT: General: Ms. Kay McIver by telephone at 202-366-0113, or email at kay.mciver@dot.gov.

Technical: Mr. Vincent Holohan by telephone at 202-366-1933, or email at vincent.holohan@dot.gov.

SUPPLEMENTARY INFORMATION: PHMSA has received a special permit request from TransCanada (present owner and operator of the Columbia Pipeline Group (CPG) Dundee Storage Field, which was formerly owned and operated by Columbia Gas Transmission) for the extension of a previously issued special permit. On March 3, 2005, PHMSA issued a special permit to Columbia Gas Transmission for the installation, operation, and testing of approximately 4,200 feet of 4-inch diameter fiberglass reinforced polyethylene known as Fiberspar® spooled, non-metallic, composite line pipe in its CPG Dundee Storage Field, located in Schulyer County, New York. The special permit provided variance from 49 CFR 192.53(c), 192.121, 192.123, and 192.619(a). TransCanada has requested a continuation of the existing special permit variances and conditions contingent upon the continued testing of sample pipe as set forth in the original special permit. The maximum allowable operating pressure (MAOP) of the CPG Dundee Storage Field Fiberspar pipeline remains at 825 pounds per square inch gauge. There have been no changes in the MAOP or class location, and no high consequence areas have developed on the CPG Dundee Storage Field Fiberspar pipeline.

The proposed special permit renewal and Draft Environmental Assessment (DEA) for TransCanada's request for the CPG Dundee Storage Field pipeline is available in Docket Number PHMSA-RSPA-2004-18757, at https://www.Regulations.gov. We invite interested persons to participate by reviewing the special permit renewal request and DEA at https://www.Regulations.gov, and by submitting written comments, data, or other views. Please include any comments on potential safety and environmental impacts that may result if the special permit is renewed.

Before issuing a decision on the special permit renewal request, PHMSA will evaluate all comments received on or before the comment closing date. Comments received after the closing date will be evaluated if it is possible to do so without incurring additional expense or delay. PHMSA will consider each relevant comment we receive in making our decision to grant a special permit renewal or deny a request.

Issued in Washington, DC, on July 8, 2019, under authority delegated in 49 CFR 1.97.
Alan K. Mayberry,
Associate Administrator for Pipeline Safety.

[FR Doc. 2019-15386 Filed 7-18-19; 8:45 am]

BILLING CODE 4910-60-P